CORPORATION FOR NATIONAL AND COMMUNITY SERVICE

Notice of Pre-Application Conference Calls for Potential Applicants for Learn and Serve America and AmeriCorps Grants To Overcome the Digital Divide

AGENCY: Corporation for National and Community Service.

ACTION: Notice of pre-application technical assistance conference calls.

SUMMARY: We have scheduled three conference calls to provide technical assistance to organizations interested in applying for grants to support efforts to overcome the digital divide through the Learn and Serve America School-based and AmeriCorps State competitive and National Direct programs.

FOR FURTHER INFORMATION CONTACT: To register for one of the conference calls contact Rosa Harrison, (202) 606-5000, ext. 433, TDD (202) 565-2799. For individuals with disabilities, we will make information available in alternative formats upon request.

SUPPLEMENTARY INFORMATION: In a notice published in the Federal Register on April 28, 2000 (65 FR 24920) we announced the availability of approximately $12,500,000 to award grants under the Learn and Serve America K-12 School-based and AmeriCorps State Competitive and National Direct funding streams to support efforts to help overcome the digital divide. For a copy of this notice and related materials and to access additional information about Learn and Serve America and AmeriCorps, visit our web site: http://www.nationalservice.org.

We have scheduled three conference calls regarding the application processes for these grants. The conference calls will assist participants in understanding the application processes and the requirements for grants made under the notice of funding availability.

Conference Calls

Tuesday, May 9, 4 p.m.-5 p.m. Eastern Time

Wednesday, May 10, 1 p.m.-2 p.m. Eastern Time

Thursday, May 11, 12 p.m.-1 p.m. Eastern Time

To register for one of the conference calls contact Rosa Harrison, (202) 606-5000, ext. 433, TDD (202) 565-2799.

Dated: May 2, 2000.
Gary Kowalczyk,
Coordinator, National Service Programs, Corporation for National and Community Service.

[FR Doc. 00-11286 Filed 5-4-00; 8:45 am]

BILLING CODE 6050-28-U